DEPARTMENT OF THE TREASURY

Agency Information Collection Activities; Submission for OMB Review; Comment Request; Office of Foreign Assets Control

AGENCY: Office of Foreign Assets Control, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before March 31, 2025 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Melody Braswell by emailing PRA@treasury.gov, calling (202) 622-1035, or viewing the entire information collection request at www.reginfo.gov.

SUPPLEMENTARY INFORMATION:

Office of Foreign Assets Control (OFAC)

Title: Rough Diamonds Control Regulations.

OMB Number: 1505-0198.

Type of Review: Extension without change of a currently approved collection.

Description: The collections of information are contained in section 592.301(a)(3) of OFAC's Rough Diamonds Control Regulations. The person identified as the ultimate consignee on the Customs Form 7501 Entry Summary, or its electronic equivalent is required to report that person's receipt of a shipment of rough diamonds to the relevant foreign exporting authority within 15 calendar days of the date that the shipment arrived at the U.S. port of entry.

Forms: Section 592.301(a)(3) states that the report filed by the ultimate consignee need not be in any particular form and may be submitted electronically or by mail or courier.

Affected Public: Business organizations and individuals engaged in the international diamond trade.

Estimated Number of Respondents: Based on data received from the U.S. Department of Homeland Security (DHS), U.S. Customs and Border Protection (CBP), the estimate for the number of unique reporting respondents is approximately 73 respondents per year.

Frequency of Response: The estimated annual frequency of responses is approximately 5.5 per respondent, based on average transaction volume.

Estimated Total Number of Annual Responses: The estimated total number of responses per year is approximately 402.

Estimated Time per Response: DHS/CBP assesses that there is an average time estimate of 10 minutes per response.

Estimated Total Annual Burden Hours: The estimated total annual reporting burden is approximately 67 hours.

Authority: 44 U.S.C. 3501 et seq.

Melody Braswell,
Treasury PRA Clearance Officer.

[FR Doc. 2025-03310 Filed 2-27-25; 8:45 am]

BILLING CODE 4810-AL-P